SECURITIES AND EXCHANGE COMMISSION

Submission for OMB Review; Comment Request

Upon Written Request; Copies Available From: Securities and Exchange Commission, Office of Filings and Information Services, Washington, DC 20549.

Extension: Form 8-A, OMB Control No. 3235-0056, SEC File No. 270-54, and Form 18-K, OMB Control No. 3235-0120, SEC File No. 270-108.

Notice is hereby given that, pursuant to the Paperwork Reduction Act of 1995 (44 U.S.C. 3501 et seq.) the Securities and Exchange Commission (“Commission”) has submitted to the Office of Management and Budget requests for extension of the previously approved collections of information discussed below.

Form 8-A (OMB Control No. 3235-0056; SEC File No. 270-54) is a registration statement for certain classes of securities pursuant to Section 12(b) and 12(g) of the Securities Exchange Act of 1934. The information required on Form 8-A provides investors with the necessary information to make investment decisions regarding securities offered to the public. The likely respondents will be companies. The information must be filed with the Commission on occasion. Form 8-A is a public document. The Commission uses very little of the collected information itself except on an occasional basis in the enforcement of the securities laws. Form 8-A takes 3 hours to prepare and is filed by 1,540 respondents for a total of 4,620 burden hours.

Form 18-K (OMB Control No. 3235-0120; SEC File No. 270-108) is used as an annual report for foreign governments and political subdivisions with securities listed on a United States exchange. Form 18-K permits verification of compliance with securities law requirements and assures the public availability and dissemination of such information. The information collected on Form 18-K must be filed with the Commission annually. The Commission uses very little of the collected information itself except on an occasional basis in the enforcement of the securities laws. Form 18-K is a public document. Form 18-K takes approximately 8 hours to prepare and is filed by 20 respondents for a total of 160 burden hours.

Written comments regarding the above information should be directed to the following persons: (i) Desk Officer for the Securities and Exchange Commission, Office of Information and Regulatory Affairs, Office of Management and Budget, Room 10102, New Executive Office Building, Washington, DC 20503; and (ii) Michael E. Bartell, Associate Executive Director, Office of Information Technology, Securities and Exchange Commission, 450 Fifth Street, NW, Washington, DC 20549. Comments must be submitted to OMB within 30 days of this notice.

Dated: July 17, 2000.
Jonathan G. Katz,
Secretary.

[FR Doc. 00-18593 Filed 7-21-00; 8:45 am]

BILLING CODE 8010-01-M